DEPARTMENT OF DEFENSE

Office of the Secretary

[Transmittal No. 15-30]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Sarah A. Ragan or Heather N. Harwell, DSCA/LMO, (703) 604-1546/(703) 607-5339.

The following is a copy of a letter to the Speaker of the House of Representatives, Transmittal 15-30 with attached Policy Justification.

Dated: August 11, 2015.
Aaron Siegel,
Alternate OSD Federal Register Liaison Officer, Department of Defense.

BILLING CODE 5001-06-P

BILLING CODE 5001-06-C

Transmittal No. 15-30

Notice of Proposed Issuance of Letter of Offer Pursuant to Section 36(b)(1) of the Arms Export Control Act, as amended

(i) Prospective Purchaser: Government of Bahrain

(ii) Total Estimated Value:

Major Defense Equipment * | $ 0 million
Other | $ 150 million
TOTAL | $ 150 million

(iii) Description and Quantity or Quantities of Articles or Services under Consideration for Purchase: a proposed sale for follow on support for Bahrain's existing F-16 fleet. Support will include support equipment, communications equipment, ammunition, personal training and training equipment, spare and repair parts, publications and technical documentation, Electronic Combat International Security Assistance Program, U.S. Government and contractor technical, logistics, and engineering support services, and other related elements of logistics and program support.

(iv) Military Department: Air Force (QAT, Amendment 18)

(v) Prior Related Cases, if any:

FMS case QAT-$153M-11Feb00

FMS case SGA-$301M-21Apr87

FMS case SGG-$193M-20Feb98

(vi) Sales Commission, Fee, etc., Paid, Offered, or Agreed to be Paid: None

(vii) Sensitivity of Technology Contained in the Defense Article or Defense Services Proposed to be Sold: None

(viii) Date Report Delivered to Congress: 4 August 2015

*as defined in Section 47(6) of the Arms Export Control Act.

POLICY JUSTIFICATION

Bahrain—F-16 Follow-On Support

The Government of Bahrain has requested a possible sale of follow on support for Bahrain's existing F-16 fleet. Support will include support equipment, communications equipment, ammunition, personal training and training equipment, spare and repair parts, publications and technical documentation, Electronic Combat International Security Assistance Program, U.S. Government and contractor technical, logistics, and engineering support services, and other related elements of logistics and program support. The estimated cost is $150 million.

The proposed sale will contribute to the foreign policy and national security of the United States by helping improve the security of a Major Non-NATO Ally, which has been and continues to be a key security partner in the region.

The follow-on support is required to maintain the operational readiness of the Royal Bahrain Air Force's (RBAF) F-16 fleet. The RBAF's F-16s are aging and periodic maintenance is becoming increasingly expensive. The age of the fleet, combined with an increased operational tempo due to recent involvement in Operation Inherent Resolve has led to increased focus on maintenance and sustainment. Bahrain will have no difficulty absorbing this additional support into its armed forces.

The principal contractor is unknown at this time. Contracts will be awarded when source of supply determines that defense articles and services are not available from stock or considered lead-time away. There are no known offset agreements proposed in connection with this potential sale.

Implementation of this proposed sale will not require the assignment of any additional U.S. or contractor representatives in Bahrain.

There will be no adverse impact on U.S. defense readiness as a result of this proposed sale.

[FR Doc. 2015-20054 Filed 8-13-15; 8:45 am]

BILLING CODE 5001-06-P